DEPARTMENT OF DEFENSE

Defense Acquisition Regulations System

48 CFR Part 252

Defense Federal Acquisition Regulation Supplement; New Designated Country—Taiwan—DFARS Case 2009-D010)

AGENCY: Defense Acquisition Regulations System; Department of Defense (DoD).

ACTION: Final rule.

SUMMARY: DoD is adopting, as final, an interim rule amending the Defense Federal Acquisition Regulation Supplement (DFARS) to add Taiwan as a designated country, due to the accession of Taiwan to membership in the World Trade Organization Government Procurement Agreement.

DATES: Effective date: June 11, 2010.

FOR FURTHER INFORMATION CONTACT: Ms. Amy Williams, Defense Acquisition Regulations System, OUSD (AT&L) DPAP (DARS), 3060 Defense Pentagon, Room 3B855, Washington, DC 20301-3060. Telephone 703-602-0328; facsimile 703-602-0350. Please cite DFARS Case 2009-D022.

SUPPLEMENTARY INFORMATION:

A. Background

On July 15, 2009, Taiwan became a designated country under the World Trade Organization Government Procurement Agreement. DoD published an interim rule at 74 FR 61045 on November 23, 2009, that added Taiwan to the list of World Trade Organization Government Procurement Agreement countries in the trade agreement provisions and clauses in Part 252.

DoD notes that being added as a “designated country” under trade agreements does not affect Taiwan's status with regard to being an acceptable source for specialty metals and items containing specialty metals. The exception to the specialty metals restrictions is only for specialty metals that are melted or produced in a “qualifying country” or items that contain specialty metals and are manufactured in a qualifying country. The qualifying countries are listed at DFARS 225.003(10). Taiwan is not a qualifying country.

DoD received comments from one respondent, but the comments were outside the scope of this case.

This rule was subject to Office of Management and Budget review under section 6(b) of Executive Order 12866, Regulatory Planning and Review, dated September 30, 1993. This is not a major rule.

B. Regulatory Flexibility Act

DoD certifies that this rule will not have a significant economic impact on a substantial number of small entities within the meaning of the Regulatory Flexibility Act, 5 U.S.C. 601, et seq. Although the rule opens up Government procurement to the products of Taiwan in acquisitions that are subject to trade agreements, DoD only applies the trade agreements to acquisitions of those non-defense items listed at DFARS 225.401-70. Acquisitions of supplies that are set aside for small businesses are exempt.

C. Paperwork Reduction Act

Although the interim rule did not make any direct change to the provision at DFARS 252.225-7020, the addition of Taiwan as a designated country does affect the certification and information collection requirements in that provision, which is currently approved under Office of Management and Budget Control Number 0704-0229. DFARS 252.225-7020(a) references the definition of “designated country” in the clause at DFARS 252.225-7021, which has been changed by this rule to include Taiwan. The impact, however, is negligible.

List of Subjects in 48 CFR Part 252

Government procurement.

Ynette R. Shelkin,
Editor, Defense Acquisition Regulations System.

Interim Rule Adopted as Final Without Change

Accordingly, the interim rule amending 48 CFR part 252 which was published at 74 FR 61045 on November 23, 2009, is adopted as a final rule without change.

[FR Doc. 2010-14123 Filed 6-10-10; 8:45 am]

BILLING CODE 5001-08-P